DEPARTMENT OF DEFENSE

GENERAL SERVICES ADMINISTRATION

NATIONAL AERONAUTICS AND SPACE ADMINISTRATION

48 CFR Parts 3, 5, 47, and 49

[FAC 97-18; Item IX]

Federal Acquisition Regulation; Technical Amendments

AGENCIES: Department of Defense (DoD), General Services Administration (GSA), and National Aeronautics and Space Administration (NASA).

ACTION: Technical amendments.

SUMMARY: This document makes amendments to the Federal Acquisition Regulation in order to update references and make editorial changes.

EFFECTIVE DATE: June 6, 2000.

FOR FURTHER INFORMATION CONTACT: The FAR Secretariat, Room 4035, GS Building, Washington, DC 20405, (202) 501-4755.

List of Subjects in 48 CFR parts 3, 5, 47, and 49

Government procurement.

Dated: May 26, 2000.
Edward C. Loeb,
Director, Federal Acquisition Policy Division.

Therefore, DoD, GSA, and NASA amend 48 CFR parts 3, 47, and 49 as set forth below:

1. The authority citation for 48 CFR parts 3, 47, and 49 continues to read as follows:

Authority: 40 U.S.C. 486(c); 10 U.S.C. chapter 137; and 42 U.S.C. 2473(c).

PART 3—IMPROPER BUSINESS PRACTICES AND PERSONAL CONFLICTS OF INTEREST

3.303 [Amended]

2. Amend section 3.303 in the first sentence of paragraph (a) by removing “41 U.S.C. 253(B)(e) and 10 U.S.C. 2305(b)(5)” and adding “41 U.S.C. 253b(i) and 10 U.S.C. 2305(b)(9)” in its place.

PART 5—PUBLICIZING CONTRACT ACTIONS

3. Revise the last sentence of section 5.204 to read as follows:

5.204 Presolicitation notices.

* * * Synopsizing of a proposed contract action is required prior to issuance of any resulting solicitation (see 5.201 and 5.203).

PART 47—TRANSPORTATION

47.504 [Amended]

4. In section 47.504, amend the first sentence of paragraph (e) by removing “(see 12.504(a)(13))” and adding “(see 12.504(a)(11))” in its place.

PART 49—TERMINATION OF CONTRACTS

5. Remove “19...” and add “20_” in the following places:

a. Section 49.601-1 in paragraphs (a) and (b); and

b. Section 49.601-2 in paragraph (a) of the Notice of Termination to Prime Contractors; in paragraph (i) in the Acknowledgment of Notice; and in paragraph (a) of the Alternate notice.

[FR Doc. 00-13825 Filed 6-1-00; 4:02 pm]

BILLING CODE 6820-EP-P